DEPARTMENT OF ENERGY

Federal Energy Regulatory Commission

[Project No. P-3615-002]

Drew River Mill, Inc.; Notice of Site Review

May 24, 2002.

Drew River Mill, Inc. (DRMI), licensee for the Branch River Mill Project (Project), requests to surrender its exemption from licensing for the existing, non-operational Project. On June 20, 2002, the staff of the Office of Energy Projects (OEP) will conduct a site review of the Project. Representative(s) of DRMI will accompany the OEP staff. All interested parties may meet at 9:30 A.M. at the Project dam. Attendees must provide their own transportation.

For further information, please contact the Commission's Office of External Affairs at (202) 208-1088.

Magalie R. Salas,
Secretary.

[FR Doc. 02-13666 Filed 5-30-02; 8:45 am]

BILLING CODE 6717-01-P